COMMISSION ON CIVIL RIGHTS

Notice of Public Meeting of the Guam Advisory Committee; Correction

AGENCY: Commission on Civil Rights.

ACTION: Notice; correction to meeting date.

SUMMARY: The Commission on Civil Rights published a notice in the Federal Register on Tuesday, September 27, 2022, concerning a meeting of the Guam Advisory Committee. The meeting date has since changed.

FOR FURTHER INFORMATION CONTACT: Kayla Fajota, kfajota@usccr.gov, or (312) 358-8311.

Correction: In the Federal Register on Tuesday, September 27, 2022, in FR Document Number 2022-20909, on page 58482, first column, correct the meeting date to: Tuesday, November 1, 2022 ChST (Monday, October 31, 2022 ET).

Dated: October 5, 2022.
David Mussatt,
Supervisory Chief, Regional Programs Unit.

[FR Doc. 2022-22057 Filed 10-7-22; 8:45 am]

BILLING CODE P